DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before July 7, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on June 2, 2021.
Donald P. Burger,
Chief, General Approvals and Permits Branch.

Application No. | Applicant | Regulation(s) affected | Nature of the special permits thereof
Special Permits Data—Granted
5749-M | Chemours Company Fc LLC | 173.315(a) | To modify the special permit to authorize a new distillate trailer.
11110-M | United Parcel Service Co | 171.8, 175.75 | To modify the special permit to authorize additional airlines to use the permit.
14782-M | Southern States, LLC | 173.304a | To modify the special permit to act as an approval and to comply with the International Maritime Dangerous Goods Code.
20301-M | Tesla, Inc | 172.101(j), 173.185(a)(1), 173.185(b)(3)(i), 173.185(b)(3)(ii) | To modify the special permit to authorize a new pressure relief design and to increase cell energy.
20706-M | Southern States, LLC | 172.301(c), 173.304(a) | To modify the special permit to authorize the transportation in commerce of compressed sulfur hexafluoride gas in non-DOT specification packaging in accordance with IMDG Regulations.
20801-M | New Avon Company | 172.315(a)(2) | To modify the special permit to authorize cargo vessel as a mode of transportation.
21080-N | Visuray LLC | 173.222(c)(3) | To authorize the transportation in commerce of machinery/apparatus containing quantities of Division 2.2 gases in excess of what is authorized in 173.222.
21088-N | Logbatt Gmbh | 173.24(g) | To authorize the manufacture, mark, sale, and use of packagings that vent for the purpose of transporting damaged, defective, and recalled batteries.
21105-M | US EPA Region 5 | 172.102(c)(1), 173.185(f)(1), 173.185(f)(3) | To modify the special permit to authorize the transportation of damaged, silicone-covered Maxell cells.
21139-N | KULR Technology Corporation | 172.200, 172.700(a) | To authorize the transportation in commerce of lithium batteries with limited relief from the shipping papers and training required in 49 CFR Subparts C and H of Part 172 of the U.S. HMR when shipped in a thermal containment packaging manufactured by KULR for recycling.
21141-N | Pollution Control Inc | 172.320, 173.56(b) | To authorize the transportation in commerce, for the purpose of disposal only, of certain waste energetic substances classed as Division 1.1D, subject to the packaging and special provisions prescribed herein.
21168-N | Nexair, LLC | 172.203(a), 180.205(c), 180.209(a), 180.209(b)(1), 180.209(b)(1)(iv) | To authorize the transportation in commerce of certain Division 2.1 and 2.2 hazardous materials in DOT Specification 3AL cylinders, cylinders manufactured under DOT-SP 12440, and ISO 7866 cylinders that are requalified every ten years rather than every five years using 100% ultrasonic examination.
21174-N | LG Energy Solution, Ltd | 172.101(j) | To authorize the transportation in commerce of lithium batteries exceeding 35 kg by cargo-only aircraft.
21181-N | Terracycle Regulated Waste LLC | 172.102(c), 172.200, 172.300, 172.400, 173.159a(c)(2), 173.185(c)(1)(iii), 173.185(c)(1)(iv), 173.185(c)(1)(v), 173.185(c)(3) | To authorize the manufacture, marking, sale and use of non-DOT specification fiberboard boxes for the transportation in commerce of certain batteries without shipping papers, marking of the proper shipping name and identification number or labeling, when transported for recycling or disposal.
21192-N | Vacco Industries |  | To authorize the transportation in commerce of non-DOT specification receptacles containing certain refrigerant gases housed within a satellite.
21194-N | Spaceflight, Inc | 173.185(e)(3) | To authorize the transportation in commerce of prototype and low production lithium batteries contained in equipment in alternative packaging by ground transportation.
21200-N | National Aeronautics and Space Administration | 173.301(a)(1), 173.301(f)(1), 173.301(h)(3), 173.302(a)(1), 173.302(f)(2) | To authorize the transportation in commerce of non-DOT specification cylinders containing compressed air.
21204-N | Aegis Resource Management LLC | 172.400 | To authorize the transportation in commerce of certain waste hazardous materials when utilizing alternate hazard communication.
21211-N | The Home Depot Inc | 172.301(a)(1), 172.301(c), 172.301(d) | To authorize the transportation of hand sanitizer for donation in non-bulk combination packages without certain markings.
21213-N | Space Exploration Technologies Corp | 172.300, 172.400, 173.302(a) | To authorize the transportation in commerce of satellites containing krypton, compressed in non-DOT specification cylinders.
21220-N | Fireworks Over America | 172.301(a)(1), 172.401(a)(2) | To authorize the transportation in commerce of fireworks classed as UN0355 by China as UN0431 within the US.
21223-N | Atlas Pyrovision Entertainment Group, Inc | 173.56 | To authorize the transportation of pyrotechnic articles that are reclassed as fireworks.
21225-N | Praxair Distribution, Inc | 173.301(f), 179.500-12 | To authorize the transportation in commerce of dinitrogen tetroxide in multi-unit tank cars equipped with pressure relief devices.
Special Permits Data—Denied
20705-M | Exhaust Center, Inc | 177.834(h), 178.700(c)(1) | To modify the special permit to authorize three new tank designs.
21143-N | Tradewater LLC | 172.700(a), 173.306(a) | To authorize the transportation in commerce of refrigerant gases in DOT 2Q receptacles as limited quantities by motor vehicle and rail without requiring training in accordance with Part 172 subpart H.
21170-N | Westwind Helicopters, Inc | 172.101(j) | To authorize the transportation in commerce of certain hazardous materials by passenger-carrying aircraft in quantities that exceed the limitation in Column (9A) of the 172.101 Table.
Special Permits Data—Withdrawn
21230-N | National Air Cargo Group, Inc | 175.501(d) | To authorize the carriage of a Division 2.2 material exceeding the quantity limitations for cargo aircraft.
21236-N | Tesla, Inc | 173.185(b)(1) | To authorize the transportation in commerce of lithium ion cells within alternative packaging.

[FR Doc. 2021-11877 Filed 6-4-21; 8:45 am]

BILLING CODE 4910-60-P